FEDERAL COMMUNICATIONS COMMISSION

[CC Docket Nos. 93-193, 94-65; DA 05-2195]

Wireline Competition Bureau Approves Plan To Refund Interstate Access Customers of Sprint/United LECs for 1993 and 1994 Tariff Periods

AGENCY: Federal Communications Commission.

ACTION: Notice.

SUMMARY: This document provides notice that the Wireline Competition Bureau has approved the plan to refund interstate access customers of certain Sprint/United incumbent Local Exchange Carriers (the Sprint/United LECs) for refunds associated with their 1993 and 1994 annual interstate access tariffs. It also provides information as to how refunds may be obtained by interstate access customers of the Sprint/United LECs that are either no longer readily identifiable or that are due refunds of less than $100.

DATES: Former interstate access customers may submit refund claims to the Sprint Incumbent Local Exchange Companies (Sprint) through October 24, 2005.

ADDRESSES: See Supplementary Information for address postings.

FOR FURTHER INFORMATION CONTACT: Margaret Dailey, Wireline Competition Bureau, Pricing Policy Division, (202) 418-1520, margaret.dailey@fcc.gov.

SUPPLEMENTARY INFORMATION: On July 30, 2004, the Commission released the Add-Back Tariff Investigation Order, FCC 04-151, in CC Docket Nos. 93-193 and 94-65. In that Order, the Commission concluded its investigation of the 1993 and 1994 interstate access tariffs of price cap local exchange carriers (LECs) that implemented a sharing or lower formula adjustment. The Commission found unjust and unreasonable the 1993 annual access tariffs of price cap LECs that implemented a sharing or lower formula adjustment in their 1992 Price Cap Indexes (PCIs) and that failed to apply add-back in computing their 1992 earnings and rates of return and resulting 1993 PCIs. The Commission made the same findings for the 1994 interstate access tariffs of price cap LECs that implemented a sharing or lower formula adjustment in their 1993 PCIs. Finally, the Commission ordered affected price cap LECs to: (1) Recalculate their 1992 and 1993 earnings and rates of return, making an add-back adjustment; (2) determine the appropriate sharing or lower formula adjustment to their PCIs for the subsequent tariff year; (3) compute the amount of any resulting access rate decrease; and (4) submit a plan for refunding the amounts owed to customers plus interest as a result of any such rate decrease.

On August 30, 2004, the Sprint Incumbent Local Exchange Companies filed the refund plans required by the Add-Back Tariff Investigation Order and determined that refunds are due to interstate access customers of the following Sprint/United incumbent LECs:

• United Telephone of Florida

• United Telephone Company of Ohio

• United Telephone Company of Indiana, Inc.

• United Telephone—Southeast, Inc.

• United Telephone—Midwest

—United Telephone Company of Kansas

—United Telephone Company of Eastern Kansas

—United Telephone Company of South Central Kansas

—United Telephone Company of Minnesota

—United Telephone Company of Missouri

—United Telephone Company of Texas

—United Telephone Company of the West

• Sprint/United Telephone—Northwest

(the Sprint/United LECs). In the Add-Back Refund Order, DA 05-719, released March 17, 2005, the Wireline Competition Bureau (Bureau) completed its review and approved Sprint's refund plans as further detailed in that Order. The Bureau recognized that, due to factors such as bankruptcy, changes in ownership, or simple passage of time, some customers of the Sprint/United LECs may no longer be readily identifiable. Further, the Bureau did not require Sprint to identify and notify customers that may be due refunds of less than $100. Customers that Sprint cannot identify and customers due refunds of less than $100 may, however, obtain refunds through the following procedure, as specified in paragraph 22 of the Add-Back Refund Order: For at least 60 days after this notice is published in the Federal Register, Sprint must post this notice on its company web sites that are most often consulted by its interstate access customers. Sprint must also provide an address to which former access customers may submit refund claims by a specified date that is at least 60 days after the refund notice is first posted.

Federal Communications Commission.
Thomas J. Navin,
Chief, Wireline Competition Bureau.

[FR Doc. 05-16615 Filed 8-23-05; 8:45 am]

BILLING CODE 6712-01-P